DEPARTMENT OF HOMELAND SECURITY

Coast Guard

[Docket No. USCG-2009-0325]

Merchant Marine Personnel Advisory Committee; Vacancies

AGENCY: Coast Guard, DHS.

ACTION: Request for applications.

SUMMARY: The Coast Guard seeks applications for membership on the Merchant Marine Personnel Advisory Committee (MERPAC). This Committee advises the Coast Guard on matters related to the training, qualification, licensing, certification, and fitness of seamen serving in the U.S. merchant marine.

DATES: Completed application forms should reach us on or before July 15, 2009.

ADDRESSES: You may request an application form by writing to Mr. Mark Gould, Assistant to the Designated Federal Officer (DFO) for MERPAC, at Commandant (CG-5221), U.S. Coast Guard, 2100 Second Street, SW., Washington, DC 20593-0001. Please submit applications to the same address. Also, a copy of the application form, as well as this notice, is available in our online docket, USCG-2009-0325, at http://www.regulations.gov. Send your completed application, along with a personal resume, to the Assistant DFO at the street address above.

FOR FURTHER INFORMATION CONTACT: Mr. Mark Gould, Assistant to DFO of MERPAC; telephone 202-372-1409 or e-mail mark.c.gould@uscg.mil.

SUPPLEMENTARY INFORMATION: MERPAC is a Federal advisory committee established by authority of the Federal Advisory Committee Act under 5 U.S.C. App. (Pub. L. 92-463). MERPAC advises the Assistant Commandant for Prevention on matters of concern to seamen serving in our merchant marine, such as implementation of the International Convention on Standards of Training, Certification and Watchkeeping for Seafarers, 1978 (STCW), as amended.

MERPAC normally meets twice a year, once at or near Coast Guard Headquarters, Washington, DC, and once elsewhere in the country. It may also meet for extraordinary purposes. Its subcommittees and working groups may also meet to consider specific tasks as required.

We will consider applications for seven positions that expire or become vacant on January 31, 2010. To be eligible, you should have experience in the following areas of expertise: marine education in training institutions other than State or Federal maritime academies; maritime education in State maritime academies (2 vacancies); licensed engineering officer with either a limited chief engineer or a designated duty engineer endorsement and who represents a labor point of view; licensed deck officer who has an endorsement for vessels of any gross tonnage upon oceans and who also has tanker experience; unlicensed member of the engine department; and one person who represents the general public. Each member serves for a term of three years. Members may serve consecutive terms if re-appointed. Members serve without compensation from the Federal Government; however, they do receive travel reimbursement and per diem.

In support of the policy of the Coast Guard on gender and ethnic diversity, we encourage qualified women and members of minority groups to apply.

If you are selected as a member who represents the general public, you will be appointed and serve as a special Government employee (SGE) as defined in section 202(a) of title 18, United States Code. As a candidate for appointment as a SGE, applicants are required to complete a Confidential Financial Disclosure Report (OGE Form 450). A completed OGE Form 450 is not releasable to the public except under an order issued by a Federal court or as otherwise provided under the Privacy Act (5 U.S.C. 552a). Only the Designated Agency Ethics Official (DAEO) or the DAEO's designate may release a Confidential Financial Disclosure Report.

If you are interested in applying to become a member of MERPAC, send a completed application, along with a personal resume, to Mr. Mark Gould, Assistant to the DFO of MERPAC, at the address above. Send the application in time for it to be received by the DFO on or before July 15, 2009.

A copy of the application form is available in the docket for this notice. To visit our online docket, go to http://www.regulations.gov, enter the docket number for this notice (USCG-2009-0325) in the Search box, and click “Go.”

Dated: May 1, 2009.
J. G. Lantz,
Director of Commercial Regulations and Standards.

[FR Doc. E9-10750 Filed 5-7-09; 8:45 am]

BILLING CODE 4910-15-P